DEPARTMENT OF DEFENSE

Office of the Secretary

Defense Science Board; Notice of Federal Advisory Committee Meeting

AGENCY: Under Secretary of Defense for Research and Engineering, Department of Defense (DoD).

ACTION: Notice of Federal advisory committee meeting.

SUMMARY: The DoD is publishing this notice to announce that the following Federal Advisory Committee meeting of the Defense Science Board (DSB) will take place.

DATES: Closed to the public Thursday, October 3, 2024 from 8:00 a.m. to 5:00 p.m.

ADDRESSES: The address of the closed meeting is the Pentagon, Room 3E188, Washington, DC, 20301.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/. The most up-to-date changes to the meeting agenda can be found on the website.

SUPPLEMENTARY INFORMATION: Due to circumstances beyond the control of the DFO and the DoD, the DSB was unable to provide public notification required by 41 CFR 102-3.150(a) concerning its October 3, 2024 meeting. Accordingly, the Advisory Committee Management Officer for the DoD, pursuant to 41 CFR 102-3.150(b), waives the 15-calendar day notification requirement.

This meeting is being held under the provisions of chapter 10 of title 5, United States Code (U.S.C.) (commonly known as the “Federal Advisory Committee Act” or “FACA”); 5 U.S.C. 552b (commonly known as the “Government in the Sunshine Act”) and 41 CFR 102-3.140 and 102-3.150.

Purpose of the Meeting: The mission of the DSB is to provide independent advice and recommendations on matters relating to the DoD's scientific and technical enterprise. The objective of the meeting is to obtain, review, and evaluate classified information related to the DSB's mission. The DSB will meet with DoD Leadership to discuss classified current and future national security challenges and priorities within the DoD and deliberate and vote on findings and recommendations.

Agenda: The meeting will begin on Wednesday, October 3, 2024 at 8:00 a.m. Ms. Betsy Kowalski, DFO, and Dr. Eric Evans, Chair of the DSB, will provide classified opening remarks regarding ongoing studies. Following break, the DSB will deliberate and vote on the classified findings and recommendations of the Permanent Subcommittee on Strategic Options' Commercial Provision of Navigation Signals for Operational Use study and the National Security Challenges for 2025 and Beyond product. Next, the DSB will deliberate and vote on the classified findings and recommendations of the 2024 Summer Study on Advanced Capabilities for Potential Future Conflict. Following break, the DSB will deliberate and vote on the classified findings and recommendations of the DSB Task Force on Emerging Biotechnologies and National Security. Next, General Eric Smith, Commandant of the Marine Corps, will provide a classified briefing on his views of current Marine Corps strategy, challenges, and priorities. Finally, the DSB will deliberate and vote on the classified findings and recommendations of the DSB Task Force on 21st Century Industrial Base for National Defense. The meeting will adjourn at 5:00 p.m.

Meeting Accessibility: In accordance with 5 U.S.C. 1009(d) and 41 CFR 102-3.155, the DoD has determined that the DSB meeting will be closed to the public. Specifically, the Under Secretary of Defense for Research and Engineering, in consultation with the DoD Office of the General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Research and Engineering.

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point; however, if a written statement is not received at least three calendar days prior to the meeting, which is the subject of this notice, then it may not be provided to or considered by the DSB until a later date.

Dated: September 24, 2024.
Aaron T. Siegel,
Alternate OSD Federal Register Liaison Officer, Department of Defense.

[FR Doc. 2024-22359 Filed 9-27-24; 8:45 am]

BILLING CODE 6001-FR-P